FEDERAL COMMUNICATIONS COMMISSION

47 CFR Part 73

[DA No. 00-673; MM Docket No. 99-123; RM 9502]

Radio Broadcasting Services; Royston and Commerce, GA

AGENCY: Federal Communications Commission.

ACTION: Proposed rule; denial.

SUMMARY: The Allocations Branch denies a rulemaking petition filed by Southern Broadcasting of Athens, Inc., to reallot Channel 279C3 and to change the community of license of its Station WPUP(FM) from Royston to Commerce, Georgia. The Branch determined that the proposal would not result in a preferential arrangement of allotments. See 64 FR 23253, April 30, 1999. With this action, this proceeding is terminated.

ADDRESSES: Federal Communications Commission, Washington, DC 20554.

FOR FURTHER INFORMATION CONTACT: Andrew J. Rhodes, Mass Media Bureau, (202) 418-2120

SUPPLEMENTARY INFORMATION: This is a summary of the Commission's Report and Order, MM Docket No. 99-123, adopted March 23, 2000, and released March 24, 2000. The full text of this Commission decision is available for inspection and copying during normal business hours in the Commission's Reference Center, 445 Twelfth Street, SW, Washington, D.C. 20554. The complete text of this decision may also be purchased from the Commission's copy contractors, International Transcription Services, Inc., 1231 20th Street, NW., Washington, DC. 20036, (202) 857-3800, facsimile (202) 857-3805.

List of Subjects 47 CFR Part 73

Radio broadcasting.

Federal Communications Commission.
John A. Karousos,
Chief, Allocations Branch, Policy and Rules Division, Mass Media Bureau.

[FR Doc. 00-8175 Filed 4-3-00; 8:45 am]

BILLING CODE 6712-01-P